EXPORT-IMPORT BANK

[Public Notice: 2015-3006]

Agency Information Collection Activities: Comment Request

AGENCY: Export-Import Bank of the United States.

ACTION: Submission for OMB review and comments request.

Form Title: EIB 92-30 Report of Premiums Payable for Financial Institutions Only.

SUMMARY: The Export-Import Bank of the United States (Ex-Im Bank), as part of its continuing effort to reduce paperwork and respondent burden, invites the general public and other Federal Agencies to comment on the proposed information collection, as required by the Paperwork Reduction Act of 1995.

This collection of information is necessary, pursuant to 12 U.S.C. Sec. 635(a)(1), to determine eligibility of the export sales for insurance coverage. The Report of Premiums Payable for Financial Institutions Only is used to determine the eligibility of the shipment(s) and to calculate the premium due to Ex-Im Bank for its support of the shipment(s) under its insurance program. Export-Import Bank customers will be able to submit this form on paper or electronically.

The Export-Import Bank has made a change to the report to have the insured financial institution provide the industry code (NAICS) associated with each specific export as well as specific information needed to make a determination as to whether or not the exporter meets the SBA's definition of a small business. The insured financial institution already provides a short description of the goods and/or services being exported and the name and address of the exporter. These additional pieces of information will allow Ex-Im Bank to better track what exports it is covering with its insurance policy and the extent to which its support assists U.S. small businesses.

The other change that Ex-Im Bank has made is to require the insured financial institution to indicate whether the exporter is a minority-owned business, women-owned business and/or veteran-owned business. Although answers to the question are mandatory, the company may choose any one of the three answers: Yes/No/Decline to Answer. The option of “Decline to Answer” allows a company to consciously decline to answer the specific question should they not wish to answer.

The information collection tool can be reviewed at: http://www.exim.gov/pub/pending/eib92-30.pdf.

DATES: Comments must be received on or before January 8, 2016 to be assured of consideration.

ADDRESSES: Comments may be submitted electronically on WWW.REGULATIONS.GOV or by mail to Office of Information and Regulatory Affairs, 725 17th Street NW., Washington, DC 20038, Attn: OMB 3048-0021.

SUPPLEMENTARY INFORMATION:

Title and Form Number: EIB 92-30 Report of Premiums Payable for Financial Institutions Only.

OMB Number: 3048-0021.

Type of Review: Regular.

Need and Use: This collection of information is necessary, pursuant to 12 U.S.C. Sec. 635(a)(1), to determine eligibility of the applicant for Ex-Im Bank assistance. The information collected enables Ex-Im Bank to determine the eligibility of the shipment(s) for insurance and to calculate the premium due to Ex-Im Bank for its support of the shipment(s) under its insurance program.

Affected Public:

This form affects entities involved in the export of U.S. goods and services.

Annual Number of Respondents: 215.

Estimated Time per Respondent: 30 minutes.

Annual Burden Hours: 1,290 hours.

Frequency of Reporting of Use: Monthly.

Government Expenses:

Reviewing time per year: 860 hours.

Average Wages per Hour: $42.50.

Average Cost per Year: (time*wages) $36,550.

Benefits and Overhead: 20%.

Total Government Cost: $43,860.

Bonita Jones-McNeil,
Agency Clearance Officer, Office of the Chief Information Officer.

[FR Doc. 2015-31007 Filed 12-8-15; 8:45 am]

BILLING CODE 6690-01-P